COMMITTEE FOR THE IMPLEMENTATION OF TEXTILE AGREEMENTS

Request for Public Comment on Commercial Availability Petition under the North American Free Trade Agreement (NAFTA); Correction

August 20, 2003.

In the Federal Register notice, published on August 20, 2003 68 FR 50126, Column 2, Line 17, under “Summary”, please insert the number “6203.31” right after “6203.11,” as it was inadvertantly left out.

James C. Leonard III,
Chairman, Committee for the Implementation of Textile Agreements.

[FR Doc. 03-21748 Filed 8-25-03; 8:45 am]

BILLING CODE 3510-DR-S